DEPARTMENT OF LABOR

Employment and Training Administration

[TA-W-52,556]

Visteon Systems, LLC, Lansdale, Pennsylvania; Notice of Termination of Investigation

Pursuant to section 221 of the Trade Act of 1974, as amended, an investigation was initiated on August 14, 2003 in response to a worker petition filed on behalf of workers at Visteon Systems, LLC, Lansdale, Pennsylvania.

The petition was not signed by each of the three workers submitting the petition and has therefore been deemed invalid. Consequently, the investigation has been terminated.

Signed at Washington, DC this 28th day of August, 2003.
Linda G. Poole,
Certifying Officer, Division of Trade Adjustment Assistance.

[FR Doc. 03-23705 Filed 9-16-03; 8:45 am]

BILLING CODE 4510-30-P